ENVIRONMENTAL PROTECTION AGENCY

[ER-FRL-9018-1]

Environmental Impact Statements; Notice of Availability

Responsible Agency: Office of Federal Activities, General Information (202) 564-7146 or http://www.epa.gov/compliance/nepa/.

Weekly receipt of Environmental Impact Statements.

Filed 11/10/2014 Through 11/14/2014.

Pursuant to 40 CFR 1506.9.

Notice

Section 309(a) of the Clean Air Act requires that EPA make public its comments on EISs issued by other Federal agencies. EPA's comment letters on EISs are available at: http://www.epa.gov/compliance/nepa/eisdata.html.

EIS No. 20140330, Final EIS, BLM, OR, West Eugene Wetlands Resource Management Plan, review period ends: 12/22/2014, Contact: Panchita Paulete 541-683-6976.

EIS No. 20140331, Draft EIS, FHWA, NY, NJ, Cross Harbor Freight Program, comment period ends: 02/27/2015, Contact: Jonathan McDade 518-431-4127.

Amended Notices

EIS No. 20140198, Draft EIS, NMFS, WA, Two Joint State and Tribal Resource Management Plans for Puget Sound Salmon and Steelhead Hatchery Programs, comment period ends: 01/23/2015, Contact: Steve Leider 360-753-4650.

Revision to the FR Notice Published 10/03/2014; Extending the Comment Period from 11/24/2014 to 01/23/2015.

EIS No. 20140278, Draft EIS, BLM, CA, Desert Renewable Energy Conservation Plan (DRECP), comment period ends: 02/23/2015, Contact: Vicki Campbell 916-978-4401.

Revision to the FR Notice Published 09/26/2014; Extending the Comment Period from 01/09/2015 to 02/23/2015.

Dated: November 18, 2014.
Cliff Rader,
Director, NEPA Compliance Division, Office of Federal Activities.

[FR Doc. 2014-27633 Filed 11-20-14; 8:45 am]

BILLING CODE 6560-50-P